NUCLEAR REGULATORY COMMISSION

[NRC-2016-0129]

Information Collection: Licenses, Certifications, and Approvals for Nuclear Power Plants

AGENCY: Nuclear Regulatory Commission.

ACTION: Notice of submission to the Office of Management and Budget; request for comment.

SUMMARY: The U.S. Nuclear Regulatory Commission (NRC) invites public comment on the renewal of Office of Management and Budget (OMB) approval for an existing collection of information. The information collection is titled “Licenses, Certifications, and Approvals for Nuclear Power Plants.”

DATES: Submit comments by August 10, 2017.

ADDRESSES: Submit comments directly to the OMB reviewer at: Aaron Szabo, Desk Officer, Office of Information and Regulatory Affairs (3150-0151), NEOB-10202, Office of Management and Budget, Washington, DC 20503; telephone: 202-395-3621, email: oira_submission@omb.eop.gov.

FOR FURTHER INFORMATION CONTACT: David Cullison, NRC Clearance Officer, U.S. Nuclear Regulatory Commission, Washington, DC 20555-0001; telephone: 301-415-2084; email: INFOCOLLECTS .Resource@nrc.gov.

SUPPLEMENTARY INFORMATION:

I. Obtaining Information and Submitting Comments

A. Obtaining Information

Please refer to Docket ID NRC-2016-0129 when contacting the NRC about the availability of information for this action. You may obtain publicly-available information related to this action by any of the following methods:

• Federal rulemaking Web site: Go to http://www.regulations.gov and search for Docket ID NRC-2016-0129.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The supporting statement and burden spreadsheet are available in ADAMS under Accession Nos. ML17171A173 and ML17171A188.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS .Resource@NRC.GOV.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review titled “10 CFR part 52, Licenses, Certifications, and Approvals for Nuclear Power Plants.” The NRC hereby informs potential respondents that an agency may not conduct or sponsor, and that a person is not required to respond to, a collection of information unless it displays a currently valid OMB control number.

The NRC published a Federal Register notice with a 60-day comment period on this information collection on April 4, 2017 (82 FR 16435).

1. The title of the information collection: 10 CFR part 52, Licenses, Certifications, and Approvals for Nuclear Power Plants.

2. OMB approval number: 3150-0151.

3. Type of submission: Extension.

4. The form number if applicable: Not applicable.

5. How often the collection is required or requested: On occasion. Applications are submitted only when licensing action is sought.

6. Who will be required or asked to respond: Applicants for early site permits (ESPs), standard design approvals (SDAs) and certifications, manufacturing licenses (MLs), and licenses which combine construction permits (CPs) and conditional operating licenses (OLs), e.g., COLs, for commercial nuclear power reactors.

7. The estimated number of annual responses: 1,175 (1,150 reporting responses plus 25 recordkeepers).

8. The estimated number of annual respondents: 25.

9. An estimate of the total number of hours needed annually to comply with the information collection requirement or request: 243,854 hours (220,414 hours reporting plus 23,440 hours recordkeeping).

10. Abstract: The licensing processes in part 52 of title 10 of the Code of Federal Regulations (10 CFR) provide for issuance of ESPs, SDAs, MLs, CPs, and COLs for commercial nuclear power reactors. The applicants submit updated reports, applications for renewals, exemption requests and maintain records of changes to the facility and records of detailed design related information. These licensing procedures are options to the two-step licensing process in 10 CFR part 50, which provides for a CP and an OL. The part 52 licensing process places procedural requirements in part 52 and technical requirements in part 50. Part 52 reduces the overall paperwork burden borne by applicants for CPs and OLs because part 52 only requires a single application and provides options for referencing standardized designs. The information in 10 CFR part 52 is needed by the agency to assess the adequacy and suitability of an applicant's site, plant design, construction, training and experience, plans and procedures for the protection of public health and safety.

Dated at Rockville, Maryland, this 6th day of July 2017.
For the Nuclear Regulatory Commission.
David Cullison,
NRC Clearance Officer, Office of the Chief Information Officer.

[FR Doc. 2017-14491 Filed 7-10-17; 8:45 am]

BILLING CODE 7590-01-P